DEPARTMENT OF HEALTH AND HUMAN SERVICES

Centers for Disease Control and Prevention

[30Day-20-0106]

Agency Forms Undergoing Paperwork Reduction Act Review

In accordance with the Paperwork Reduction Act of 1995, the Centers for Disease Control and Prevention (CDC) has submitted the information collection request titled Preventive Health and Health Services Block Grant to the Office of Management and Budget (OMB) for review and approval. CDC previously published a “Proposed Data Collection Submitted for Public Comment and Recommendations” notice on 05/21/2020 to obtain comments from the public and affected agencies. CDC received one comment related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

Preventive Health and Health Services Block Grant (OMB Control No. 0920-0106, Exp.08/31/2022)—Revision—Center for State, Tribal, Local, and Territorial Support (CSTLTS), Centers for Disease Control and Prevention (CDC).

Background and Brief Description

CDC's Center for State, Tribal, Local, and Territorial Support (CSTLTS) plays a vital role in helping health agencies work to enhance their capacity and improve their performance to strengthen the public health system on all levels. CSTLTS is CDC's primary connection to health officials and leaders of state, tribal, local, and territorial public health agencies, as well as to other government leaders who work with health departments.

CSTLTS administers the Preventive Health and Health Services (PHHS) Block Grant funding for health promotion and disease prevention programs. Sixty-one recipients (50 states, the District of Columbia, two American Indian tribes, five U.S. territories, and three freely associated states) receive block grant funds to address locally defined public health needs in innovative ways. The PHHS Block Grant allows recipients to prioritize the use of funds to fill funding gaps in programs that deal with leading causes of death and disability, as well as the ability to respond rapidly to emerging health issues, including outbreaks of food-borne infections and water-borne diseases. CSTLTS ensures that the CDC PHHS Block Grant Program Manager and recipients account for funds in accordance with legislative mandates. Each recipient is required to submit a work plan with its selected health outcome objectives, as well as descriptions of the health problems, identified target populations (including portions of those populations disproportionately affected by the health problems), and activities to be addressed in the planned work. CDC will use the Block Grant Information System to collect recipient data, monitor recipients' progress, identify activities and personnel supported with Block Grant funding, conduct compliance reviews of Block Grant recipients, and promote the use of evidence-based guidelines and interventions.

CDC requests OMB approval for revision of this existing information collection request to accommodate the needed updates to the system and templates used to collect the information. As specified in the authorizing legislation, CDC currently collects information from Block Grant recipients to monitor their objectives and activities. Recipients will submit information on the following:

• Recipient information: Unique identifying information about each recipient.

• Work plan: Information about objectives, activities, and the populations to be addressed each year.

• Annual Progress Report: Information about success and progress toward meeting health objectives.

Since 2008, CDC has collected this information using a web-based electronic system, the Block Grant Management Information System (BGMIS). Beginning with the FY2021 award, CDC will begin using a new information management system, the Block Grant Information System (BGIS) to collect this information. The new system will essentially collect the same information as the old system, but will offer a variety of updates and improvements. Examples of improvements include updated technological infrastructure, updated Healthy People Objectives (from 2020 to 2030) for recipients to use when planning programs, usability improvements, and redesigned instruments to capture data in more useful formats for both the recipients and reporting purposes.

The respondent universe will include PHHS Block Grant Coordinators(n=61). All modules will be accessed electronically through the BGIS system. CDC requests approval for an estimated 1,525 burden hours annually.

Estimated Annualized Burden Hours
Type of respondents | Form name | Number of respondents | Number of responses per respondent | Average burden per response (in hours)
PHHS Block Grant Coordinator | Recipient Information | 61 | 1 | 2
PHHS Block Grant Coordinator | Work Plan | 61 | 1 | 12
PHHS Block Grant Coordinator | PHHS Block Annual Progress Report | 61 | 1 | 11

Jeffrey M. Zirger,
Lead, Information Collection Review Office, Office of Scientific Integrity, Office of Science, Centers for Disease Control and Prevention.

[FR Doc. 2020-20213 Filed 9-11-20; 8:45 am]

BILLING CODE 4163-18-P